SURFACE TRANSPORTATION BOARD

[Docket No. FD 36124]

Dover and Rockaway River Railroad, LLC—Operation Exemption—County of Morris, NJ.

Dover and Rockaway River Railroad, LLC (DRRR), a noncarrier, has filed a verified notice of exemption under 49 CFR 1150.31 to operate pursuant to an agreement a total of approximately 17.4 miles of rail line owned by several railroads (the Dover & Rockaway Railroad, the High Bridge Branch Railroad, and the Chester Branch Railroad) (collectively, the County Railroads), which are all owned by the County of Morris, NJ (the County). The lines at issue are as follows: (1) Chester Branch, between milepost 41.4 at Chester Junction, in Roxbury Township, NJ, and milepost 45.4 in Randolph, NJ; (2) High Bridge Branch, between milepost 22.66 at Ferremonte Junction, in Roxbury Township and milepost 15.2 in Flanders, NJ, and (3) Dover & Rockaway Branch, between milepost 25.7 at D&R Junction in Wharton, NJ, and milepost 31.6 in Rockaway, NJ.

This transaction is related to a concurrently filed verified notice of exemption in Kean Burenga—Continuance in Control Exemption—Dover & Rockaway River Railroad, Belvidere & Delaware River Railway, & Black River & Western Corp., Docket No. FD 36125, in which Kean Burenga (Burenga) seeks Board approval to continue in control of DRRR upon DRRR's becoming a Class III rail carrier.

DRRR states that it will interchange with Norfolk Southern Railway Company at Chester Jct. (also known as Lake Jct.) and D&R Jct. The rail lines are currently managed and operated by Morristown & Erie Railway, Inc. (ME). According to DRRR, ME's lease will expire on June 30, 2017.¹

¹ To date, ME has not sought authority to discontinue service.

The transaction may be consummated on or after July 2, 2017, the effective date of the exemption (30 days after the verified notice was filed).²

² On June 5, 2017, DRRR and Burenga jointly requested that the effective date of the exemption be advanced one day, to July 1, 2017. This request will be addressed in a separate decision.

DRRR certifies that, as a result of this transaction, its projected revenues will not exceed those that would qualify it as a Class III rail carrier and will not exceed $5 million. DRRR certifies also that the agreement does not involve an interchange commitment.

If the verified notice contains false or misleading information, the exemption is void ab initio. Petitions to revoke the exemption under 49 U.S.C. 10502(d) may be filed at any time. The filing of a petition to revoke will not automatically stay the effectiveness of the exemption. Petitions to stay must be filed no later than June 23, 2017 (at least seven days before the exemption becomes effective).

An original and 10 copies of all pleadings, referring to Docket No. FD 36124, must be filed with the Surface Transportation Board, 395 E Street SW., Washington, DC 20423-0001. In addition, a copy must be served on Eric M. Hocky, Clark Hill, PLC, One Commerce Square, 2005 Market Street, Suite 1000, Philadelphia, PA 19103.

Board decisions and notices are available on our Web site at WWW.STB.GOV.

Decided: June 13, 2017.
By the Board, Rachel D. Campbell, Director, Office of Proceedings.
Kenyatta Clay,
Clearance Clerk.

[FR Doc. 2017-12535 Filed 6-15-17; 8:45 am]

BILLING CODE 4915-01-P